DEPARTMENT OF TRANSPORTATION

Surface Transportation Board

[Docket No. FD 35945]

Regional Rail Holdings, LLC—Acquisition of Control Exemption—Regional Rail, LLC

AGENCY: Surface Transportation Board, DOT.

ACTION: Correction to notice of exemption.

On July 22, 2015, Regional Rail Holdings, LLC, a noncarrier, filed a verified notice of exemption under 49 CFR 1180.2(d)(2) to acquire control of Regional Rail, LLC, a holding company for three Class III rail carriers, East Penn Railroad, LLC, Middletown & New Jersey Railroad, LLC, and Tyburn Railroad LLC.

On August 7, 2015, notice of the exemption was served and published in the Federal Register (80 FR 47557). The notice erroneously stated that the effective date of the exemption would be August 22, 2015, and that petitions to stay must be filed no later than August 15, 2015. This notice corrects those statements. The effective date of the exemption is August 21, 2015, and petitions to stay must be filed no later than August 14, 2015. All other information in the notice is correct.

Board decisions and notices are available on our Web site at www.stb.dot.gov.

Decided: August 10, 2015.
By the Board, Rachel D. Campbell, Director, Office of Proceedings.
Kenyatta Clay,
Clearance Clerk.

[FR Doc. 2015-19971 Filed 8-12-15; 8:45 am]

BILLING CODE 4915-01-P